ENVIRONMENTAL PROTECTION AGENCY

40 CFR Part 180

[OPP-2004-0326; FRL-7741-7]

S-metolachlor; Pesticide Tolerance Technical Correction

AGENCY: Environmental Protection Agency (EPA).

ACTION: Final rule; technical correction.

SUMMARY: EPA issued a final rule in the Federal Register of August 31, 2005 concerning regulations establishing tolerances for combined residues (free and bound) of S-metolachlor in or on certain commodities as set forth in Unit II. of the SUPPLEMENTARY INFORMATION of that document. This document is being issued to correct errors in the amendatory language and amendments.

DATES: This final rule is effective on August 31, 2005.

ADDRESSES: Follow the detailed instructions as provided under ADDRESSES in the Federal Register final rule of August 31, 2005.

FOR FURTHER INFORMATION CONTACT: Sidney Jackson, Registration Division (7505C), Office of Pesticide Programs, Environmental Protection Agency, 1200 Pennsylvania Ave., NW., Washington, DC 20460-0001; telephone number: (703) 305-7610; e-mail address: jackson.sidney@epa.gov.

SUPPLEMENTARY INFORMATION:

I. General Information

Please refer to the final rule that published on August 31, 2005 for general information about potentially affected entities and accessing this document electronically.

II. What Does This Correction Do?

EPA published in the Federal Register of August 31, 2005 (70 FR 51628) (FRL-7716-1) regulations establishing tolerances for combined residues of S-metoclachlor in or on certain commodities as set forth in Unit II of the SUPPLEMENTARY INFORMATION of that document. Portions of the regulatory amendments and the regulatory text were set out incorrectly. This document is being published to correct those errors.

III. Why Is This Correction Issued as a Final Rule?

Section 553 of the Administrative Procedure Act (APA), 5 U.S.C. 553(b)(B), provides that, when an Agency for good cause finds that notice and public procedure are impracticable, unnecessary or contrary to the public interest, the agency may issue a final rule without providing notice and an opportunity for public comment. EPA has determined that there is good cause for making today's technical correction final without prior proposal and opportunity for comment, because the use of notice and comment procedures are unnecessary to effectuate this correction. As such, EPA finds that this constitutes good cause under 5 U.S.C. 553(b)(B).

IV. Do Any of the Statutory and Executive Order Reviews Apply to This Action?

No. This action only corrects errors in the amendatory language for a previously published final rule and does not impose any new requirements. EPA's compliance with the statutes and Executive Orders for the underlying rule is discussed in Unit VII. of the August 31, 2005, final rule (70 FR 51628).

V. Congressional Review Act

The Congressional Review Act, 5 U.S.C. 801 et seq., generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of this final rule in the Federal Register. This final rule is not a “major rule ” as defined by 5 U.S.C. 804(2).

List of Subjects in 40 CFR Part 180

Environmental protection, Administrative practice, Agricultural commodities, Pesticides and pests, Reporting and recordkeeping requirements.

Dated: October 28, 2005.
Lois Rossi,
Director, Registration Division, Office of Pesticide Programs.

PART 180—[AMENDED]

Therefore, 40 CFR part 180 is corrected as follows:

1. The authority citation for part 180 continues to read as follows:

Authority: 21 U.S.C. 321(q), 346a and 371.

§ 180.368 [Corrected]

2. On page 51637, in the second column, in the amendments to § 180.368, amendatory instruction 2. iii. should read: By designating the existing text as (c)(1) and adding paragraph (c)(2).

§ 180.368 [Corrected]

3. On pages 51637 and 51638, in the third and first columns respectively, in the table to § 180.368 (a)(3), remove the stars wherever they appear.

[FR Doc. 05-22609 Filed 11-15-05; 8:45 am]

BILLING CODE 6560-50-S